DEPARTMENT OF DEFENSE

Department of the Navy

[Docket ID USN-2014-0003]

Privacy Act of 1974; System of Records

AGENCY: Department of the Navy, DoD.

ACTION: Notice to delete a System of Records.

SUMMARY: The Department of the Navy is deleting a system of records notice in its existing inventory of record systems subject to the Privacy Act of 1974, as amended. The system notice is entitled “N03501-1, FBM Submarine DASO Crew Evaluation”.

DATES: This proposed action will be effective on February 13, 2014 unless comments are received which result in a contrary determination. Comments will be accepted on or before February 12, 2014.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, HEAD, FOIA/Privacy Act Policy Branch, Department of the Navy, 2000 Navy Pentagon, Washington, DC 20350-2000, or by phone at (202) 685-6545.

SUPPLEMENTARY INFORMATION: The Department of the Navy's systems of records notices subject to the Privacy Act of 1974 (5 U.S.C. 552a), as amended, have been published in the Federal Register and are available from the address in FOR FURTHER INFORMATION CONTACT. The proposed deletion is not within the purview of subsection (r) of the Privacy Act of 1974, (5 U.S.C. 552a), as amended, which requires the submission of a new or altered system report.

Dated: January 8, 2014.
Aaron Siegel,
Alternate OSD Federal Register Liaison Officer, Department of Defense.

Deletion:

N03501-1, FBM Submarine DASO Crew Evaluation (February 22, 1993, 58 FR 10731).

Reason:

The Department of the Navy has determined that the SORN N03501-1, FBM Submarine DASO Crew Evaluation can be deleted as the collection is no longer needed. No information has been collected in the past 10 years, and all previous records were destroyed.

Therefore, SORN N03501-1, FBM Submarine DASO Crew Evaluation can be deleted.

[FR Doc. 2014-00351 Filed 1-10-14; 8:45 am]

BILLING CODE 5001-06-P